DEPARTMENT OF TRANSPORTATION

Federal Highway Administration

Environmental Impact Statement: Mecklenburg and Union Counties, NC

AGENCY: Federal Highway Administration (FHWA), DOT.

ACTION: Notice of Intent.

SUMMARY: The FHWA is issuing this notice to advise the public that an Environmental Impact Statement (EIS) will be prepared for a proposed project in Mecklenburg and Union Counties, North Carolina.

FOR FURTHER INFORMATION CONTACT: Mr. George Hoops, Major Projects Engineer, Federal Highway Administration, 310 New Bern Avenue, Suite 410, Raleigh, North Carolina 27601-1418, Telephone: (919) 856-4350 extension 104.

SUPPLEMENTARY INFORMATION: Pursuant to Title 23, Code of Federal Regulations, Part 771, Environmental Impact and Related Procedures, the FHWA, in cooperation with the North Carolina Turnpike Authority (NCTA) and the North Carolina Department of Transportation (NCDOT), will prepare an environmental impact statement (EIS) addressing proposed improvements in the US 74 corridor from I-485 in Mecklenburg County to the vicinity of the Town of Marshville, which is east of the City of Monroe (the County seat) in Union County. The proposed project study extends from I-485 in the west to the vicinity of the Town of Marshville in the east and extends north and south of US 74. The proposed action is included in the long range transportation plan approved by the Mecklenburg-Union Metropolitan Planning Organization (MUMPO).

This study is a combination of two projects previously analyzed by NCDOT, the Monroe Bypass (NCDOT Transportation Improvement Program [TIP] Project R-2559) and the Monroe Connector (NCDOT TIP Project R-3329). The Monroe Bypass study addressed in the US 74 corridor from just west of the City of Monroe to just west of the Town of Marshville. An Environmental Assessment for this project was approved in March 1996, and a Finding of No Significant Impact was issued in June 1997. The Monroe Connector study previously addressed improvements in the US 74 corridor from I-485 to US 601 in the City of Monroe, where it ended at the proposed Monroe Bypass. A Draft EIS for this project was approved in November 2003; however, a public hearing was never held. In February 2005, the NCTA adopted the Monroe Connector as a toll candidate facility, and in January 2006, the Notice of Intent for the Monroe Connector EIS was rescinded (Federal Register Vol. 71, No. 19, page 4958). Subsequently, NCTA adopted the Monroe Bypass project as a toll candidate facility in October 2006. The Monroe Connector and Monroe Bypass projects have been combined into a single project and will be evaluated in a single EIS.

The EIS for the proposed action will consider alternatives for improvements in the US 74 corridor from I-485 to US 74 in the vicinity of the Town of Marshville. Alternatives, including a “No-Build” Alternative (continuation of the existing condition), improving the existing US 74 corridor, and constructing a new location facility, will be considered. Several alternative corridors for a new location facility will be studied. As part of the EIS, NCTA will study the feasibility and impacts of developing the proposed project, in whole or in part, as a toll road.

Letters describing the proposed action and soliciting comments will be sent to appropriate Federal, State and local agencies. Scoping will occur over a series of meetings with the agencies and citizens informational workshops with the public. Information on the dates, times, and locations of the citizens informational workshops will be advertised in the local news media and newsletters will be mailed to those on the project mailing list. If you wish to be placed on the mailing list, contact Jennifer Harris at the address listed below. The Draft EIS will be available for public and agency review and comment prior to the public hearing.

To ensure the full range of issues related to the proposed action are addressed and all significant issues identified, comments and suggestions are invited from all interested parties. Comments and questions concerning the proposed action should be directed to the FHWA at the address provided above or directed to: Ms. Jennifer Harris, Staff Engineer, North Carolina Turnpike Authority, 5400 Glenwood Avenue, Suite 400, Raleigh, North Carolina, 27612. Telephone: (919) 571-3004.

(Catalog of Federal Domestic Assistance Program Number 20.205, Highway Research, Planning and Construction. The regulations implementing Executive Order 12372 regarding intergovernmental consultation of Federal programs and activities apply to this program.)
George Hoops,
Major Projects Engineer, Federal Highway Administration, Raleigh, North Carolina.

[FR Doc. 07-196 Filed 1-18-07; 8:45 am]

BILLING CODE 4910-22-M